DEPARTMENT OF TRANSPORTATION

Federal Aviation Administration

14 CFR Part 39

[Docket No. FAA-2015-2455; Directorate Identifier 2014-NM-180-AD]

RIN 2120-AA64

Airworthiness Directives; The Boeing Company Airplanes

AGENCY: Federal Aviation Administration (FAA), DOT.

ACTION: Notice of proposed rulemaking (NPRM).

SUMMARY: We propose to supersede Airworthiness Directive (AD) 2008-26-07, which applies to all McDonnell Douglas Model DC-8-11, DC-8-12, DC-8-21, DC-8-31, DC-8-32, DC-8-33, DC-8-41, DC-8-42, and DC-8-43 airplanes; Model DC-8-50 series airplanes; Model DC-8F-54 and DC-8F-55 airplanes; Model DC-8-60 series airplanes; Model DC-8-60F series airplanes; Model DC-8-70 series airplanes; and Model DC-8-70F series airplanes. AD 2008-26-07 currently requires repetitive inspections of the lower skin and stringers at certain stations, and corrective actions if necessary. This proposed AD is intended to complete certain mandated programs intended to support the airplane reaching its limit of validity (LOV) of the engineering data that support the established structural maintenance program. This proposed AD would also require an eddy current high frequency (ETHF) inspection for cracks of the fastener open holes common to the lower skins, stringers, and splice fittings at a certain station; installation of external doublers and fasteners and repetitive eddy current low frequency (ETLF) inspections around the fasteners for any crack; and corrective actions if necessary. We are proposing this AD to detect and correct cracks in the lower skins, stringers, and fastener holes of the splice fittings, which could result in the loss of structural integrity of the airplane.

DATES: We must receive comments on this proposed AD by August 17, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-2455.

Examining the AD Docket

You may examine the AD docket on the Internet at http://www.regulations.gov by searching for and locating Docket No. FAA-2015-2455; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Chandra Ramdoss, Aerospace Engineer, Airframe Branch, ANM-120L, FAA, Los Angeles Aircraft Certification Office (ACO), 3960 Paramount Boulevard, Lakewood, CA 90712-4137; telephone: 562-627-5239; fax: 562-627-5210; email: Chandraduth.Ramdoss@faa.gov.

SUPPLEMENTARY INFORMATION:

Comments Invited

We invite you to send any written relevant data, views, or arguments about this proposed AD. Send your comments to an address listed under the ADDRESSES section. Include “Docket No. FAA-2015-2455; Directorate Identifier 2014-NM-180-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 12, 2008, we issued AD 2008-26-07, Amendment 39-15773 (73 FR 78946, December 24, 2008), for all McDonnell Douglas Model DC-8-11, DC-8-12, DC-8-21, DC-8-31, DC-8-32, DC-8-33, DC-8-41, DC-8-42, and DC-8-43 airplanes; Model DC-8-50 series airplanes; Model DC-8F-54 and DC-8F-55 airplanes; Model DC-8-60 series airplanes; Model DC-8-60F series airplanes; Model DC-8-70 series airplanes; and Model DC-8-70F series airplanes. AD 2008-26-07 requires repetitive inspections of the lower skin and stringers at stations Xw=408 and Xw=-408, and corrective actions if necessary. AD 2008-26-07 resulted from reports of cracks in the skins and stringers at the end fasteners common to the stringer end fittings at stations Xw=408 and Xw=-408 wing splice joints. We issued AD 2008-26-07 to detect and correct fatigue cracking in the skins and stringers at the end fasteners common to the stringer end fittings at certain station and wing splice joints, which could result in wing structure that might not sustain limit load, and consequent loss of structural integrity of the wing.

Widespread Fatigue Damage

As described in FAA Advisory Circular 120-104 (http://www.faa.gov/documentLibrary/media/Advisory_Circular/120-104.pdf), several programs have been developed to support initiatives that will ensure the continued airworthiness of aging airplane structure. The last element of those initiatives is the requirement to establish a limit of validity (LOV) of the engineering data that support the structural maintenance program under 14 CFR 26.21. This proposed AD is the result of an assessment of the previously established programs by Boeing during the process of establishing the LOV for The Boeing Company Model DC-8-11, DC-8-12, DC-8-21, DC-8-31, DC-8-32, DC-8-33, DC-8-41, DC-8-42, and DC-8-43 airplanes; Model DC-8-50 series airplanes; Model DC-8F-54 and DC-8F-55 airplanes; Model DC-8-60 series airplanes; Model DC-8-60F series airplanes; Model DC-8-70 series airplanes; and Model DC-8-70F series airplanes. The actions specified in this proposed AD are necessary to complete certain programs to ensure the continued airworthiness of aging airplane structure and to support an airplane reaching its LOV.

We are proposing this AD to detect and correct cracks in the lower skins, stringers, and fastener holes of the splice fittings, which could result in the loss of structural integrity of the airplane.

Actions Since AD 2008-26-07, Amendment 39-15773 (73 FR 78946, December 24, 2008) Was Issued

Since we issued AD 2008-26-07, Amendment 39-15773 (73 FR 78946, December 24, 2008), we have received new service information to ensure the continued airworthiness of aging airplane structure and to support an airplane reaching its LOV. The new inspection and modification of the left and right lower wing skin, stringers, and splice fittings will support operation up to the DC-8 LOV.

Related Service Information Under 1 CFR Part 51

We reviewed Boeing Service Bulletin DC8-57-104, dated August 18, 2014. The service information describes procedures for certain airplanes for an ETHF inspection for cracks of the fastener open holes common to the lower skins, stringers, and splice fittings at a certain station; installation of external doublers and fasteners and repetitive ETLF inspections around the fasteners for any crack; and corrective actions. This service information is reasonably available because the interested parties have access to it through their normal course of business or by the means identified in the ADDRESSES section of this NPRM.

FAA's Determination

We are proposing this AD because we evaluated all the relevant information and determined the unsafe condition described previously is likely to exist or develop in other products of the same type design.

Proposed AD Requirements

This proposed AD would retain all requirements of AD 2008-26-07, Amendment 39-15773 (73 FR 78946, December 24, 2008). This proposed AD would also require an ETHF inspection for cracks of the fastener open holes common to the lower skins, stringers, and splice fittings at a certain station; installation of external doublers and fasteners and repetitive ETLF inspections around the fasteners for any crack if necessary; and corrective actions.

Clarification of Actions for Groups 1-3, Configuration 1 Airplanes

Where the Accomplishment Instructions of Boeing Service Bulletin DC8-57-104, dated August 18, 2014, specifies repair, this AD also requires an inspection and possible other actions.

Change to AD 2008-26-07, Amendment 39-15773 (73 FR 78946, December 24, 2008)

Since AD 2008-26-07, Amendment 39-15773 (73 FR 78946, December 24, 2008), was issued, the AD format has been revised, and certain paragraphs have been rearranged with new title headers. As a result, the corresponding paragraph identifiers have been redesignated in this proposed AD, as listed in the following table:

Revised Paragraph Identifiers
Requirement in AD 2008-26-07 | Corresponding requirement in this proposed AD
paragraph (e) | paragraph (f)
paragraph (f) | paragraph (g)
paragraph (g) | paragraph (h)
paragraph (h) | paragraph (i)

Explanation of “RC” Steps in Service Information

The FAA worked in conjunction with industry, under the Airworthiness Directive Implementation Aviation Rulemaking Committee (ARC), to enhance the AD system. One enhancement was a new process for annotating which steps in the service information are required for compliance with an AD. Differentiating these steps from other tasks in the service information is expected to improve an owner's/operator's understanding of crucial AD requirements and help provide consistent judgment in AD compliance. The steps identified as RC (required for compliance) in any service information identified previously have a direct effect on detecting, preventing, resolving, or eliminating an identified unsafe condition.

For service information that contains steps that are labeled as Required for Compliance (RC), the following provisions apply: (1) the steps labeled as RC, including substeps under an RC step and any figures identified in an RC step, must be done to comply with the AD, and an AMOC is required for any deviations to RC steps, including substeps and identified figures; and (2) steps not labeled as RC may be deviated from using accepted methods in accordance with the operator's maintenance or inspection program without obtaining approval of an AMOC, provided the RC steps, including substeps and identified figures, can still be done as specified, and the airplane can be put back in an airworthy condition.

Costs of Compliance

We estimate that this proposed AD affects 12 airplanes of U.S. registry.

We estimate the following costs to comply with this proposed AD:

Estimated Costs
Action | Labor cost | Parts cost | Cost per product | Cost on U.S. operators
Inspection [retained actions from AD 2008-26-07, Amendment 39-15773 (73 FR 78946, December 24, 2008)] | 6 work-hours × $85 per hour = $510 per inspection cycle | $0 | $510 | $6,120 per inspection cycle
ETHF Inspection [new proposed action] | 8 work-hours × $85 per hour = $680 per inspection cycle | $0 | $680 | $8,160 per inspection cycle

We estimate the following costs to do any necessary certain follow-on actions that would be required based on the results of the proposed inspection. We have no way of determining the number of aircraft that might need these actions:

On-Condition Costs
Action | Labor cost | Parts cost | Cost per product
Installation of External Doubler | 5 work-hour × $85 per hour = $425 | $20,000 | $20,425
Repetitive ETLF inspection | 8 work-hour × $85 per hour = $680 per inspection cycle | $0 | $680 per inspection cycle

For all actions and repairs on Groups 1-3, Configuration 1 Airplanes, we have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-26-07, Amendment 39-15773 (73 FR 78946, December 24, 2008), and adding the following new AD:

The Boeing Company: Docket No. FAA-2015-2455; Directorate Identifier 2014-NM-180-AD.

(a) Comments Due Date

The FAA must receive comments on this AD action by August 17, 2015.

(b) Affected ADs

This AD replaces AD 2008-26-07, Amendment 39-15773 (73 FR 78946, December 24, 2008).

(c) Applicability

This AD applies to all The Boeing Company Model DC-8-11, DC-8-12, DC-8-21, DC-8-31, DC-8-32, DC-8-33, DC-8-41, DC-8-42, DC-8-43, DC-8-51, DC-8-52, DC-8-53, DC-8-55, DC-8F-54, DC-8F-55, DC-8-61, DC-8-62, DC-8-63, DC-8-61F, DC-8-62F, DC-8-63F, DC-8-71, DC-8-72, DC-8-73, DC-8-71F, DC-8-72F, and DC-8-73F airplanes; certificated in any category.

(d) Subject

Joint Aircraft System Component (JASC) 57, Wings.

(e) Unsafe Condition

This AD was prompted by certain mandated programs intended to support the airplane reaching its limit of validity of the engineering data that support the established structural maintenance program. We are issuing this AD to detect and correct cracks in the lower skins, stringers, and fastener holes of the splice fittings, which could result in the loss of structural integrity of the airplane.

(f) Compliance

Comply with this AD within the compliance times specified, unless already done.

(g) Retained Repetitive Inspections

This paragraph restates the requirements of paragraph (f) of AD 2008-26-07, Amendment 39-15773 (73 FR 78946, December 24, 2008). At the times specified in paragraph 1.E., “Compliance,” of Boeing Alert Service Bulletin DC8-57A102, dated February 12, 2008, except as provided by paragraph (h) of this AD, do the applicable inspections for fatigue cracking of the lower skin and stringers at stations Xw=408 and Xw=−408, and do all applicable corrective actions, by accomplishing all applicable actions specified in the Accomplishment Instructions of Boeing Alert Service Bulletin DC8-57A102, dated February 12, 2008. Do all corrective actions before further flight. Thereafter, repeat the inspections at the applicable intervals specified in paragraph 1.E., “Compliance,” of Boeing Alert Service Bulletin DC8-57A102, dated February 12, 2008, until paragraph (j) of this AD is done.

(h) Retained Exception for Compliance Time

This paragraph restates the exception specified in paragraph (g) of AD 2008-26-07, Amendment 39-15773 (73 FR 78946, December 24, 2008). Where Boeing Alert Service Bulletin DC8-57A102, dated February 12, 2008, specifies a compliance time “after the date on this service bulletin,” this AD requires compliance within the specified compliance time after January 28, 2009 (the effective date of AD 2008-26-07).

(i) Retained Exception for Corrective Action

This paragraph restates the exception specified in paragraph (h) of AD 2008-26-07, Amendment 39-15773 (73 FR 78946, December 24, 2008): If any cracking is found during any inspection required by paragraph (g) of this AD, and Boeing Alert Service Bulletin DC8-57A102, dated February 12, 2008, specifies to contact Boeing for appropriate action: Before further flight, repair the cracking using a method approved in accordance with the procedures specified in paragraph (m) of this AD.

(j) New Inspections and Corrective Action

(1) For Groups 1-3, Configuration 1 Airplanes: At the applicable time specified in paragraph 1.E., “Compliance,” of Boeing Service Bulletin DC8-57-104, dated August 18, 2014, except as required in paragraph (l) of this AD, do an inspection for any cracking, and do all applicable corrective actions using a method approved in accordance with the procedures specified in paragraph (m) of this AD.

(2) For Groups 1-3, Configuration 2 Airplanes: At the applicable time specified in paragraph 1.E., “Compliance,” of Boeing Service Bulletin DC8-57-104, dated August 18, 2014, except as required in paragraph (l) of this AD, do an eddy current high frequency (ETHF) inspection for any cracking of the fastener open holes common to the lower skins, stringers, and splice fittings at station Xw=408 and Xw=−408 from stringer 51 to stringer 65, in accordance with the Accomplishment Instructions of Boeing Service Bulletin DC8-57-104, dated August 18, 2014. If any cracking is found, before further flight, repair the crack using a method approved in accordance with the procedures specified in paragraph (m) of this AD.

(k) New Doubler and Fastener Installation and Eddy Current Low Frequency (ETLF) Inspection of the External Doubler and Corrective Action

If no crack is found during the inspection required by paragraph (j)(2) of this AD: At the applicable times specified in paragraph 1.E., “Compliance,” of Boeing Service Bulletin DC8-57-104, dated August 18, 2014, install external doublers and fasteners, and do an external doubler ETLF inspection around the fasteners for any cracking. Repeat the external ETLF inspection at the applicable intervals specified in 1.E., “Compliance,” of Boeing Service Bulletin DC8-57-104, dated August 18, 2014. If any cracking is found during any ETLF inspection required by this paragraph, before further flight, repair the crack using a method approved in accordance with the procedures specified in paragraph (m) of this AD.

(l) Exception to the Compliance Time

Where Boeing Service Bulletin DC8-57-104, dated August 18, 2014, specifies a compliance time “after the original issue date of this service bulletin,” this AD requires compliance within the specified compliance time after the effective date of this AD.

(m) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD. Information may be emailed to 9-ANM-LAACO-AMOC-REQUESTS@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane, and the approval must specifically refer to this AD.

(4) AMOCs approved for AD 2008-26-07, Amendment 39-15773 (73 FR 78946, December 24, 2008), are approved as AMOCs for the corresponding provisions of this AD.

(5) Except as required by paragraphs (j) and (k) of this AD: For service information that contains steps that are labeled as Required for Compliance (RC), the provisions of paragraphs (m)(5)(i) and (m)(5)(ii) apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(n) Related Information

(1) For more information about this AD, contact Chandra Ramdoss, Aerospace Engineer, Airframe Branch, ANM-120L, FAA, Los Angeles ACO, 3960 Paramount Boulevard, Lakewood, CA 90712-4137; telephone: 562-627-5239; fax: 562-627-5210; email: Chandraduth.Ramdos@faa.gov.

(2) For service information identified in this AD, Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221.

Issued in Renton, Washington, on June 24, 2015.
Dionne Palermo,
Acting Manager, Transport Airplane Directorate, Aircraft Certification Service.

[FR Doc. 2015-16154 Filed 7-1-15; 8:45 am]

BILLING CODE 4910-13-P